ENVIRONMENTAL PROTECTION AGENCY

[FRL-9941-26-ORD]

Environmental Laboratory Advisory Board (ELAB) Meeting Dates and Agenda

AGENCY: Environmental Protection Agency (EPA).

ACTION: Notice of teleconference and face-to-face meetings.

SUMMARY: The Environmental Protection Agency's (EPA), Environmental Laboratory Advisory Board (ELAB), as previously announced, holds teleconference meetings the third Wednesday of each month at 1:00 p.m. ET and two face-to-face meetings each calendar year. For 2016, teleconference only meetings will be February 17, March 16, April 20, May 18, June 15, July 20, September 21, October 19, November 16, and December 21 to discuss the ideas and views presented at the previous ELAB meetings, as well as new business. Items to be discussed by ELAB over these coming meetings include: (1) Issues in continuing the expansion of national environmental accreditation; (2) ELAB's support to the Agency's on issues relating to measurement and monitoring for all programs; and (3) follow-up on some of ELAB's past recommendations and issues. In addition to these teleconferences, ELAB will be hosting their two face-to-face meetings with teleconference line also available on January 25, 2016, at the Hyatt Regency Tulsa in Tulsa, Oklahoma at 1:30 p.m. (CT) and on August 8, 2016, at the Hyatt Regency Orange County in Orange County, CA at 1:00 p.m. (PT).

Written comments on laboratory accreditation issues and/or environmental monitoring or measurement issues are encouraged and should be sent to Ms. Lara P. Phelps, Designated Federal Officer, US EPA (E243-05), 109 T. W. Alexander Drive, Research Triangle Park, NC 27709 or emailed to phelps.lara@epa.gov. Members of the public are invited to listen to the teleconference calls, and time permitting, will be allowed to comment on issues discussed during this and previous ELAB meetings. Those persons interested in attending should call Lara P. Phelps at (919) 541-5544 to obtain teleconference information. For information on access or services for individuals with disabilities, please contact Lara P. Phelps at the number above. To request accommodation of a disability, please contact Lara P. Phelps, preferably at least 10 days prior to the meeting, to give EPA as much time as possible to process your request.

Dated: December 23, 2105.
Thomas Burke,
EPA Science Advisor.

[FR Doc. 2016-00416 Filed 1-11-16; 8:45 am]

BILLING CODE 6560-50-P